DEPARTMENT OF HEALTH AND HUMAN SERVICES

Office of Global Affairs: Stakeholder Listening Session for the G7 Health Ministers' Meeting

ACTION: Notice of public listening session; request for comments.

DATES: The listening session will be held on Thursday, May 4, 2023, from 12:00 p.m. to 2:00 p.m., Eastern Daylight Time.

Place: The session will be held virtually, with online and dial-in information shared with registered participants.

Status: This meeting is open to the public but requires RSVP to OGA.RSVP1@hhs.gov by April 28, 2023. See RSVP section below for details.

SUPPLEMENTARY INFORMATION:

Purpose: The U.S. Department of Health and Human Services (HHS), with support from relevant health-related U.S. Government offices, is charged with leading the U.S. delegation to the Group of 7 (G7) Health Ministers' Meeting and will convene an informal Stakeholder Listening Session.

The Stakeholder Listening Session is designed to seek input from stakeholders to help inform and prepare for U.S. government engagement in the Health Ministers' Meeting. The G7 is an informal grouping of Canada, France, Germany, Italy, Japan, the United States, and the United Kingdom, and it also includes participation by the European Commission. Each year, a different member country serves as the presidency of the group and hosts the meetings. The presidency proposes the group's priorities for the year and hosts discussions to work towards consensus positions and actions on those priorities. This year's G7 presidency is Japan, which will be hosting the Health Ministers' Meeting on May 13 and 14, 2023.

Matters to be Discussed: The listening session will cover priority areas expected to be addressed at the G7 Health Ministers' Meeting. Provisional agenda items for the Health Ministers' Meeting include to:

1. Develop and strengthen global health architecture for public health emergencies;

2. Contribute to achieving more resilient, equitable and sustainable universal health coverage through strengthening health systems; and

3. Promote health innovation to address various health challenges.

More information on the 2023 G7 Health Ministers' Meeting can be found at: https://www.mhlw.go.jp/stf/seisakunitsuite/bunya/hokabunya/kokusai/g8/g7health2023_en.html.

1. Participation is welcome from all stakeholder communities.

RSVP: Persons seeking to speak at the listening session must register by Friday, April 28, 2023. Persons seeking to attend the listening session in a listen-only capacity must register by Tuesday, May 2, 2023.

Registrants must include their full name, email address, and organization, if any, and indicate whether they are registering as a listen-only attendee or as a speaker participant to OGA.RSVP1@hhs.gov.

Requests to participate as a speaker must include all of the following:

1. The name and email address of the person desiring to participate

2. The organization(s) that person represents, if any

3. Identification of the primary topic of interest

Other Information: Written comments should be emailed to OGA.RSVP1@hhs.gov with the subject line “Written Comment Re: Stakeholder Listening Session for the G7 Health Ministers Meeting” by Friday, May 5, 2023.

We look forward to your comments on the G7 Health Ministers' Meeting.

Susan Kim,
Chief of Staff, Office of Global Affairs.

[FR Doc. 2023-07811 Filed 4-12-23; 8:45 am]

BILLING CODE 4150-38-P